ENVIRONMENTAL PROTECTION AGENCY

40 CFR Part 52

[EPA-HQ-OAR-2021-0663; EPA-R02-OAR-2021-0673; EPA-R03-OAR-2021-0872; EPA-R03-OAR-2021-0873; EPA-R04-OAR-2021-0841; EPA-R05-OAR-2022-0006; EPA-R06-OAR-2021-0801; EPA-R07-OAR-2021-0851; EPA-R08-OAR-2022-0315; EPA-R09-OAR-2022-0394; EPA-R09-OAR-2022-0138; FRL-10209-02-OAR]

Air Plan Disapprovals; Interstate Transport of Air Pollution for the 2015 8-Hour Ozone National Ambient Air Quality Standards; Correction

AGENCY: Environmental Protection Agency (EPA).

ACTION: Final rule; correction.

SUMMARY: The Environmental Protection Agency (EPA) is correcting a final rule that appeared in Federal Register on Monday, February 13, 2023, which finalized the disapproval of State Implementation Plan (SIP) submissions for 19 states and the partial approval and partial disapproval of elements of the SIP submission for two states regarding interstate transport obligations for the 2015 8-hour ozone national ambient air quality standards (NAAQS). This document corrects an error in an amendatory instruction that appeared in the regulatory text portion of the final rule. This error and its correction are unrelated to the final rule.

DATES: This correction is effective on March 15, 2023.

FOR FURTHER INFORMATION CONTACT: General questions concerning this document should be addressed to Mr. Thomas Uher, Office of Air Quality Planning and Standards, Air Quality Policy Division, Mail Code C539-04, 109 TW Alexander Drive, Research Triangle Park, NC 27711; telephone number: (919) 541-5534; email address: uher.thomas@epa.gov.

SUPPLEMENTARY INFORMATION: The EPA is removing an unrelated amendatory instruction in its final rule, FRL-10209-01-OAR, published February 13, 2023 (88 FR 9336). Amendatory instruction 20 is corrected by removing instruction “20a.” and designating instruction “20b.” as the full instruction 20.

Correction

In FR Doc. 2023-02407, appearing on page 9336 in the Federal Register of Monday, February 13, 2023 (88 FR 9336), the following correction is made:

1. On page 9384, in the second column, amendatory instruction 20 is correctly revised to read as follows:

“20. Section 52.2275 is amended by adding paragraph (o) to read as follows:”.

Joseph Goffman,
Principal Deputy Assistant Administrator, Office of Air and Radiation.

[FR Doc. 2023-04814 Filed 3-9-23; 8:45 am]

BILLING CODE 6560-50-P